NUCLEAR REGULATORY COMMISSION

[Docket No. 30-36974; NRC-2010-0374]

Notice of Availability of Draft Supplement to the Environmental Assessment for the Proposed Pa'ina Hawaii, LLC Irradiator in Honolulu, HI

AGENCY: Nuclear Regulatory Commission.

ACTION: Notice of availability.

SUMMARY: Notice is hereby given that the U.S. Nuclear Regulatory Commission (NRC) is issuing and publishing for public comment a Draft Supplement to the Environmental Assessment (EA) for the irradiator proposed by Pa'ina Hawaii, LLC (Pa'ina). On June 23, 2005, Pa'ina submitted an application to NRC requesting a license to possess and use byproduct material in connection with a proposed underwater irradiator. NRC completed the Final EA and Finding of No Significant Impact (FONSI) for this action on August 10, 2007, and subsequently issued a license to Pa'ina on August 17, 2007. The license authorizes Pa'ina to possess and use byproduct material (sealed sources) in a commercial underwater irradiator to be located adjacent to Honolulu International Airport on Palekona Street near Lagoon Drive. NRC is issuing this Draft Supplement to the EA in response to a decision of the Atomic Safety and Licensing Board (Board) from the NRC's Atomic Safety and Licensing Board Panel (ASLBP). As directed by the Board, this Draft Supplement addresses the following three areas: (1) Environmental impacts of accidents that might occur during the transport of cobalt-60 sources to and from Pa'ina's irradiator, (2) electron-beam technology as an alternative to cobalt-60 irradiation, and (3) alternative sites for Pa'ina's irradiator.

DATES: The public comment period on the Draft Supplement begins on the date of publication of this notice and ends on January 6, 2011. Written comments should be submitted as described in the ADDRESSES section of this notice. Comments submitted by mail should be postmarked by January 6, 2011, to ensure consideration. Comments received or postmarked after January 6, 2011 will be considered to the extent practical, but the Commission is able to assure consideration only for comments received on or before this date.

ADDRESSES: You may submit comments by any one of the following methods. Please include the Docket ID NRC-2010-0374 in the subject line of your comments. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Electronic Mail: Comments may be sent by electronic mail to the following address: PainaEA@nrc.gov.

Federal Rulemaking Web site: Go to http://www.regulations.gov and search for documents filed under Docket ID NRC-2010-0374. Comments may be submitted electronically through this Web site. Address questions about NRC dockets to Carol Gallagher, 301-492-3668, e-mail Carol.Gallagher@nrc.gov.

Mail comments to: Cindy Bladey, Chief, Rules, Announcements, and Directives Branch (RADB), Division of Administrative Services, Office of Administration, Mail Stop: TWB5-B01M, U.S. Nuclear Regulatory Commission, Washington, DC 20555-0001, or by fax to RADB at 301-492-3446.

Comments submitted in writing or in electronic form will be posted on the NRC Web site and on the Federal rulemaking Web site http://www.regulations.gov.

FOR FURTHER INFORMATION CONTACT: Johari Moore, Project Manager, Environmental Review Branch A, Division of Waste Management and Environmental Protection, Office of Federal and State Materials and Environmental Management Programs, U.S. Nuclear Regulatory Commission, Rockville, Maryland 20852. Telephone: 301-415-7694; fax number: 301-415-5369; e-mail: Johari.Moore@nrc.gov.

SUPPLEMENTARY INFORMATION:

I. Introduction

By letter dated August 17, 2007, the U.S. Nuclear Regulatory Commission (NRC) issued Materials License No. 53-29296-01 to Pa'ina authorizing possession and use of byproduct material (sealed sources) in a commercial underwater irradiator to be located immediately adjacent to Honolulu International Airport on Palekona Street near Lagoon Drive. Also on August 17, 2007, NRC published a Notice of Availability in the Federal Register for the EA and FONSI prepared in support of this licensing action (72 FRN 46249). On September 4, 2007, Concerned Citizens of Honolulu filed contentions challenging the NRC staff's analysis in the Final EA. In an August 27, 2009 decision, the Board found that the staff needed to supplement the Pa'ina EA in order to address (1) environmental impacts of accidents that might occur during the transport of cobalt-60 sources to and from Pa'ina's irradiator, (2) electron-beam technology as an alternative to cobalt-60 irradiation, and (3) alternative sites for Pa'ina's irradiator. The Board's findings on these issues were affirmed in a July 8, 2010 decision by the NRC's Commission. In the Draft Supplement issued today, the NRC staff addresses each of the issues identified by the Board.

II. Summary of Draft Supplement to the EA

Pa'ina's license authorizes it to use byproduct material (sealed radioactive sources) in a pool irradiator to be located adjacent to Honolulu International Airport, Honolulu, Hawaii. The irradiator would be used for the production and research irradiation of food, cosmetic, and pharmaceutical products. Pa'ina's license request was previously noticed in the Federal Register on August 2, 2005 (70 FR 44396), with a notice of an opportunity to request a hearing.

The staff prepared an EA in support of its review of the license application. The staff considered impacts to areas such as public and occupational health, transportation, socioeconomics, ecology, water quality, and the effects of aircraft crashes and natural phenomena.

The staff has prepared a Draft Supplement to the EA as directed by the Board. In the first area identified by the Board, the staff found that accidents occurring during the transport of cobalt-60 to or from Pa'ina's proposed irradiator will not cause a significant impact to the environment. This is due primarily to the very low likelihood cobalt-60 will be released from a shipping package. The low likelihood of release is due to several factors, including the small number of cobalt-60 shipments to Pa'ina's irradiator and the stringent safety requirements for the design of cobalt-60 shipping packages. In the second area identified by the Board, the staff found that the environmental impacts of an electron-beam irradiator will be small for each resource area. The staff also found that the impacts will not be significantly different than those associated with construction and operation of a cobalt-60 irradiator. In the third area identified by the Board, the staff found that impacts associated with construction and operation of a cobalt-60 irradiator at alternative sites will be small and will not be significantly different than those at the proposed site. In particular, the staff found that aircraft crashes involving the alternative sites will have no significant impact on public health and safety. The staff also found that environmental impacts from earthquakes, tsunamis, and hurricanes at the alternative locations will be small.

III. Further Information

Publicly available documents created or received at the NRC, including the Draft Supplement to the EA, the August 10, 2007, EA, and the Pa'ina license and supporting documentation, are available electronically at the NRC's Electronic Reading Room at http://www.nrc.gov/reading-rm/adams.html. From this site, the public can access the NRC's Agencywide Document Access and Management System (ADAMS), which provides text and image files of NRC's public documents. The ADAMS accession number for the Draft Supplement to the EA is ML103220072. The ADAMS accession numbers for the August 10, 2007, EA and the August 17, 2007, license are ML071150121 and ML072320269, respectively. If you do not have access to ADAMS or if there are problems in accessing the documents located in ADAMS, contact the NRC Public Document Room (PDR) Reference staff at 1-800-397-4209, 301-415-4737 or by e-mail to pdr.resource@nrc.gov

The public may examine and have copied for a fee publicly available documents at the NRC's PDR, Room O1 F21, One White Flint North, 11555 Rockville Pike, Rockville, Maryland. In addition, documents relating to the administrative litigation associated with Pa'ina's application may be found in the Electronic Hearing Docket maintained by the NRC's Office of the Secretary at http://ehd1.nrc.gov/EHD/.

Dated at Rockville, Maryland, this 29th day of November, 2010.
For the U.S. Nuclear Regulatory Commission.
David Skeen,
Acting Deputy Director, Environmental Protection and Performance Assessment Directorate, Division of Waste Management and Environmental Protection, Office of Federal and State Materials and Environmental Management Programs.

[FR Doc. 2010-30488 Filed 12-3-10; 8:45 am]

BILLING CODE 7590-01-P